DEPARTMENT OF TRANSPORTATION

Federal Aviation Administration

14 CFR Part 39

[Docket No. 2001-CE-46-AD; Amendment 39-12556; AD 2001-25-03]

RIN 2120-AA64

Airworthiness Directives; Cirrus Design Corporation Models SR20 and SR22 Airplanes

AGENCY: Federal Aviation Administration, DOT.

ACTION: Final rule; request for comments.

SUMMARY: This amendment adopts a new airworthiness directive (AD) that applies to certain Cirrus Design Corporation (CDC) Models SR20 and SR22 airplanes. This AD requires you to inspect one time for understrength rivets on the elevator torque tube and rudder hinge and replace any understrength rivets. This AD is the result of CDC notifying FAA that understrength rivets were mixed in production supplies. The actions specified by this AD are intended to detect and replace understrength rivets in the elevator and rudder, which could result in failure of the control surfaces. Such failure could lead to a loss of control of the airplane in flight.

DATES: This AD becomes effective on December 17, 2001.

The Director of the Federal Register approved the incorporation by reference of certain publications listed in the regulation as of December 17, 2001.

The Federal Aviation Administration (FAA) must receive any comments on this rule on or before January 24, 2002.

ADDRESSES: Submit comments to FAA, Central Region, Office of the Regional Counsel, Attention: Rules Docket No. 2001-CE-46-AD, 901 Locust, Room 506, Kansas City, Missouri 64106.

You may get the service information referenced in this AD from Cirrus Design Corporation, 4515 Taylor Circle, Duluth, MN 55811, telephone: (218) 529-7202, facsimile: (218) 727-2148. You may download service information from <http://www.cirrusdesign.com/sb/>. You may view this information at FAA, Central Region, Office of the Regional Counsel, Attention: Rules Docket No. 2001-CE-46-AD, 901 Locust, Room 506, Kansas City, Missouri 64106; or at the Office of the Federal Register, 800 North Capitol Street, NW., suite 700, Washington, DC.

FOR FURTHER INFORMATION CONTACT: Gregory J. Michalik, Aerospace Engineer, FAA, Chicago Aircraft Certification Office, 2300 E. Devon Avenue, Room 107, Des Plaines, IL 60018, telephone: (847) 294-7135; facsimile: (847) 294-7834.

SUPPLEMENTARY INFORMATION:

Discussion

What Events Have Caused This AD?

CDC notified FAA that understrength rivets were mixed with production supplies of the type design approved rivets. The understrength rivet is of a softer alloy and has less strength than the rivet required by type design. Internal inspection by CDC has shown that the wrong rivets may be installed on as many as 143 airplanes.

What Are the Consequences If the Condition Is Not Corrected?

This condition, if not corrected, could result in failure of the control surfaces. Such failure could lead to a loss of control of the airplane in flight.

Is There Service Information That Applies to This Subject?

CDC has issued these service bulletins:

—Cirrus Design Service Bulletin SB 20-55-06, issued November 27, 2001; and

—Cirrus Design Service Bulletin SB 22-55-03, issued November 27, 2001.

The service bulletins include procedures for:

—Inspecting rivet installations for understrength rivets; and

—Replacing understrength rivets on the elevator torque tube and rudder hinge.

The FAA's Determination and an Explanation of the Provisions of This AD

What Has FAA Decided?

The FAA has reviewed all available information, including the service information referenced above; and determined that:

—The unsafe condition referenced in this document exists or could develop on other CDC Models SR20 and SR22 airplanes of the same type design;

—The actions specified in the previously-referenced service information (as specified in this AD) should be accomplished on the affected airplanes; and

—AD action should be taken in order to correct this unsafe condition.

What Does This AD Require?

This AD requires you to incorporate the actions in the previously referenced service bulletins.

In preparation of this rule, we contacted type clubs and aircraft operators to obtain technical information and information on operational and economic impacts. We have included, in the rulemaking docket, a discussion of information that may have influenced this action.

Will I Have the Opportunity To Comment Prior to the Issuance of the Rule?

Because the unsafe condition described in this document could result in failure of the control surfaces which could lead to a loss of control of the airplane in flight, we find that notice and opportunity for public prior comment are impracticable. Therefore, good cause exists for making this amendment effective in less than 30 days.

Comments Invited

How Do I Comment on This AD?

Although this action is in the form of a final rule and was not preceded by notice and opportunity for public comment, FAA invites your comments on the rule. You may submit whatever written data, views, or arguments you choose. You need to include the rule's docket number and submit your comments to the address specified under the caption ADDRESSES. We will consider all comments received on or before the closing date specified above. We may amend this rule in light of comments received. Factual information that supports your ideas and suggestions is extremely helpful in evaluating the effectiveness of the AD action and determining whether we need to take additional rulemaking action.

Are There Any Specific Portions of the AD I Should Pay Attention To?

We specifically invite comments on the overall regulatory, economic, environmental, and energy aspects of the rule that might suggest a need to modify the rule. You may view all comments we receive before and after the closing date of the rule in the Rules Docket. We will file a report in the Rules Docket that summarizes each FAA contact with the public that concerns the substantive parts of this AD.

How Can I Be Sure FAA Receives My Comment?

If you want us to acknowledge the receipt of your comments, you must include a self-addressed, stamped postcard. On the postcard, write “Comments to Docket No. 2001-CE-46-AD.” We will date stamp and mail the postcard back to you.

Regulatory Impact

Does This AD Impact Various Entities?

These regulations will not have a substantial direct effect on the States, on the relationship between the National Government and the States, or on the distribution of power and responsibilities among the various levels of government. Therefore, FAA has determined that this final rule does not have federalism implications under Executive Order 13132.

Does This AD Involve a Significant Rule or Regulatory Action?

We have determined that this regulation is an emergency regulation that must be issued immediately to correct an unsafe condition in aircraft, and is not a significant regulatory action under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket (otherwise, an evaluation is not required). A copy of it, if filed, may be obtained from the Rules Docket.

List of Subjects in 14 CFR Part 39

Air transportation, Aircraft, Aviation safety, Incorporation by Reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

2001-25-03 Cirrus Design Corporation: Amendment 39-12556; Docket No. 2001-CE-46-AD.

(a) What airplanes are affected by this AD? This AD applies to the following airplane models and serial numbers that are certificated in any category:

Model | Serial Nos.
SR20 | 1134 through 1159.
SR22 | 0003 through 0119.

(b) Who must comply with this AD? Anyone who wishes to operate any of the above airplanes must comply with this AD.

(c) What problem does this AD address? The actions specified by this AD are intended to detect and replace understrength rivets in the elevator and rudder, which could result in failure of the control surfaces. Such failure could lead to a loss of control of the airplane in flight.

(d) What must I do to address this problem? To address this problem, you must accomplish the following actions:

Actions | Compliance | Procedures
(1) Inspect for understrength rivets on the elevator torque tube and rudder hinge | Within the next 10 hours time-in-service after December 17, 2001 (the effective date of this AD) | For Model SR 20 airplanes, follow the ACCOMPLISHMENT INSTRUCTIONS section in Cirrus Design Service Bulletin SB 20-55-06, issued November 27, 2001. For Model SR 22 airplanes, follow the ACCOMPLISHMENT INSTRUCTIONS section in Cirrus Design Service Bulletin SB 22-55-03, issued November 27, 2001.
(2) If an understrength rivet is found, replace it with a new rivet, part number MS20470AD4, or FAA-approved equivalent part number | Before further flight after the inspection referenced in paragraph (d)(1) of this AD | For Model SR 20 airplanes, follow the ACCOMPLISHMENT INSTRUCTIONS section in Cirrus Design Service Bulletin SB 20-55-06, issued November 27, 2001. For Model SR 22 airplanes, follow the ACCOMPLISHMENT INSTRUCTIONS section in Cirrus Design Service Bulletin SB 22-55-03, issued November 27, 2001.
(3) Do not install part number MS20470A4 rivet | As of December 17, 2001 (the effective date of this AD) | Not Applicable.

(e) Can I comply with this AD in any other way? You may use an alternative method of compliance or adjust the compliance time if:

(1) Your alternative method of compliance provides an equivalent level of safety; and

(2) The Manager, Chicago ACO, approves your alternative. Submit your request through an FAA Principal Maintenance Inspector, who may add comments and then send it to the Manager, Chicago ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Gregory J. Michalik, Aerospace Engineer, FAA, Chicago Aircraft Certification Office, 2300 E. Devon Avenue, Room 107, Des Plaines, IL 60018 telephone: (847) 294-7135; facsimile: (847) 294-7834.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with Cirrus Design Service Bulletin No. SB 20-55-06, issued November 27, 2001, and Cirrus Design Service Bulletin No. SB 22-55-03, issued November 27, 2001. The Director of the Federal Register approved this incorporation by reference under 5 U.S.C. 552(a) and 1 CFR part 51. You can get copies from Cirrus Design Corporation, 4515 Taylor Circle, Duluth, MN 55811, telephone: (218) 529-7202, facsimile: (218) 727-2148. You may view this information at FAA, Central Region, Office of the Regional Counsel, 901 Locust, Room 506, Kansas City, Missouri, or at the Office of the Federal Register, 800 North Capitol Street, NW., suite 700, Washington, DC.

(i) When does this amendment become effective? This amendment becomes effective on December 17, 2001.

Issued in Kansas City, Missouri, on December 4, 2001.
Dorenda Baker,
Acting Manager, Small Airplane Directorate, Aircraft Certification Service.

[FR Doc. 01-30423 Filed 12-10-01; 8:45 am]

BILLING CODE 4910-13-U